DEPARTMENT OF LABOR

Occupational Safety and Health Administration

29 CFR Part 1910

[Docket No. OSHA-2007-0024]

RIN 12187-AC23

Regulatory Flexibility Act Review of the Methylene Chloride Standard

AGENCY: Occupational Safety and Health Administration (OSHA), Labor.

ACTION: Reopening of comment period.

SUMMARY: OSHA is reopening the comment period for its review of the Methylene Chloride Standard under Section 610 of the Regulatory Flexibility Act and Section 5 of Executive Order 12866 on Regulatory Planning and Review.

DATES: Written comments to OSHA must be sent or postmarked by March 10, 2008.

ADDRESSES: You may submit comments, identified by Docket No. OSHA-2007-0024, by any of the following methods:

Electronically: You may submit comments and attachments electronically at http://www.regulations.gov, which is the Federal eRulemaking Portal. Follow the instructions on-line for making electronic submissions.

Fax: If your submissions, including attachments, are not longer than 10 pages, you may fax them to the OSHA Docket Office at (202) 693-1648.

Mail, hand delivery, express mail, messenger and courier service: You must submit three copies of your comments and attachments to the OSHA Docket Office, Docket No. OSHA-2007-0024, U.S. Department of Labor, Room N-2625, 200 Constitution Avenue, NW., Washington, DC 20210. Deliveries (hand, express mail, messenger and courier service) are accepted during the Department of Labor's and Docket Office's normal business hours, 8:15 a.m.-4:45 p.m., Eastern Time.

Instructions: All submissions must include the Agency name and the OSHA docket number for this rulemaking (OSHA-2007-0024). Submissions are placed in the public docket without change and may be available online at http://www.regulations.gov. Therefore, do not include private materials such as social security numbers.

Docket: To read or download submissions or other material in the docket, go to http://www.regulations.gov or the OSHA Docket Office at the address above. All documents in the docket are listed in the http://www.regulations.gov index; however, some information (e.g., copyrighted material) is not publicly available to read or download through the website. All submissions, including copyrighted material, are available for inspection and copying at the OSHA Docket Office.

FOR FURTHER INFORMATION CONTACT: For general information and press inquiries: Kevin Ropp, Office of Communications, Room N-3647, Occupational Safety and Health Administration, U.S. Department of Labor, 200 Constitution Avenue, NW., Washington, DC 20210; telephone (202) 693-1999. For technical inquiries: Joanna Dizikes Friedrich, Directorate of Evaluation and Analysis, Occupational Safety and Health Administration, Room N-3641, 200 Constitution Avenue, NW., Washington, DC 20210; telephone (202) 693-1939, fax (202) 693-1641.

SUPPLEMENTARY INFORMATION: OSHA is conducting a review of the Methylene Chloride Standard (29 CFR 1910.1052) under Section 610 of the Regulatory Flexibility Act and Section 5 of Executive Order 12866 on Regulatory Planning and Review. On July 10, 2007, OSHA provided background information about the review, raised questions of special concern to the Agency, and requested public comments (72 FR 37501). The 90-day comment period ended on October 9, 2007. In response to a request for additional time to comment received from the Building and Construction Trades Department, AFL-CIO, OSHA is reopening the comment period for an additional 60 days. Accordingly, written comments must now be submitted (sent or postmarked) by March 10, 2008. Granting this additional time to comment on the review will allow this and other stakeholders time to provide more thorough comments on the review which in turn will give OSHA a more complete record.

Authority: This document was prepared under the direction of Edwin G. Foulke, Jr., Assistant Secretary of Labor for Occupational Safety and Health, 200 Constitution Avenue, NW., Washington, DC 20210. It is issued under Section 610 of the Regulatory Flexibility Act (5 U.S.C. 610) and Section 5 of Executive Order 12866 (58 FR 51735, October 4, 1993).

Signed at Washington, DC, this 3rd day of January, 2008.
Edwin G. Foulke, Jr.,
Assistant Secretary of Labor for Occupational Safety and Health.

[FR Doc. E8-62 Filed 1-7-08; 8:45 am]

BILLING CODE 4510-26-P